DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2008 Coverage Followup Telephone Operation.

OMB Control Number: None.

Form Number(s): None.

Type of Request: New collection.

Burden Hours: 11,000.

Number of Respondents: 66,000.

Average Hours Per Response: 10 minutes.

Needs and Uses: The U.S. Census Bureau requests authorization from the Office of Management and Budget to conduct the 2008 Coverage Followup (CFU) Telephone Operation. The 2008 Census Dress Rehearsal is the final step in the decennial cycle of research and testing leading up to the implementation of the 2010 Census. The 2008 Census Dress Rehearsal will provide an opportunity to see how well the Census Bureau integrates the various operations and procedures planned for the 2010 Census under as close to census-like conditions as possible.

In order to meet our constitutional and legislative mandates, we must implement a re-engineered 2010 Census that is cost-effective, improves coverage, and reduces operational risk. Achieving these strategic goals requires an iterative series of tests to provide an opportunity to evaluate new or improved question wording, methodology, technology, and questionnaire design.

The Census Bureau previously completed three related studies designed to evaluate the efficacy of modified procedures for improving coverage (how well the Census Bureau counts people and housing units in the census) of the population and housing: (1) The 2004 Census Test Coverage Research Followup (OMB Approval Number 0607-0910); (2) the 2005 National Census Test Coverage Followup (OMB Approval Number 0607-0916); and (3) the 2006 Census Test Coverage Followup (OMB Approval Number 0607-0923.)

In support of the Census Bureau's goals, the 2008 Coverage Followup (CFU) Telephone Operation will serve to clarify initial enumeration responses in an effort to improve within household coverage by identifying erroneous enumerations and omissions. Historically, the decennial census has been affected by undercounts that affect certain demographic groups (e.g. babies and minorities), and people in certain living situations, such as renters who move often and people whose residence is complicated or ambiguous.

Coverage interviews in the decennial censuses traditionally involve a second interview with the respondent to determine if changes should be made to their household roster as reported on their initial census return. The questions in the CFU interview attempt to determine if people were missed, and/or counted incorrectly. Corrections to the roster are made, if necessary, based on the 2008 Census Dress Rehearsal residence rules.

The CFU Telephone Operation, which will be conducted May 1, 2008 through July 25, 2008, will be administered through computer assisted telephone interviews (CATI). Approximately 66,000 households will be included in the 2008 CFU telephone universe.

This operation will be conducted in the two 2008 Census Dress Rehearsal sites: San Joaquin County, California and South Central North Carolina, including Fayetteville and nine surrounding counties (Chatham, Cumberland, Harnett, Hoke, Lee, Montgomery, Moore, Richmond and Scotland).

The CFU interview includes probing questions about:

—Types of missing people,

—Where college students live,

—Where children in custody arrangements spend most of their time,

—Where those who vacation spend most of their time,

—If anyone else in the household stays anywhere else any part of the time, and

—If anyone stayed in a facility where groups of people stay.

When anyone is identified as potentially counted or omitted in error, we then ask questions to establish the appropriate census residence of that person according to the residence rules in effect for the 2008 Census Dress Rehearsal.

Census will contact respondents using telephone numbers provided by respondents on the initial census questionnaire. These interviews will be conducted at a commercial call center through CATI. The CATI script will be in English only. However, the interviewers will have a job aid which will have the instrument translated into Spanish. Because we are not conducting field interviews during Dress Rehearsal, when a telephone interview is unsuccessful, the case will be classified as a non-interview.

Affected Public: Individuals or households.

Frequency: Once.

Respondent's Obligation: Mandatory.

Legal Authority: Title 13 U.S.C. Sections 141 and 193.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: November 7, 2007.
Gwellnar Banks,
Management Analyst, Office of the Chief Information Officer.

[FR Doc. E7-22229 Filed 11-13-07; 8:45 am]

BILLING CODE 3510-07-P